DEPARTMENT OF VETERANS AFFAIRS

Dependency and Indemnity Compensation Cost of Living Adjustments

AGENCY: Department of Veterans Affairs.

ACTION: Notice.

SUMMARY: As required by the “Veterans Compensation Cost-of-Living Adjustment Act of 2021,” the Department of Veterans Affairs (VA) is hereby giving notice of Cost-of-Living Adjustments (COLA) in certain benefit rates. These COLAs affect the Dependency and Indemnity Compensation (DIC) program. The rate of the adjustment is tied to the increase in Social Security benefits effective December 1, 2021, as announced by the Social Security Administration (SSA). SSA has announced an increase of 5.9%.

DATES: The increases in amounts became effective December 1, 2021.

FOR FURTHER INFORMATION CONTACT: David Klusman, Lead Program Analyst, Pension and Fiduciary Service, Veterans Benefits Administration, Department of Veterans Affairs, 810 Vermont Avenue NW, Washington, DC 20420, Telephone (202) 632-8862. (This is not a toll-free number).

SUPPLEMENTARY INFORMATION: Under the provisions of Public Law 117-45, VA is required to increase, effective December 1, 2021, the benefit rates of the DIC program by the same percentage as increases in the benefit amounts payable under title II of the Social Security Act. VA is required to publish a notice of the increased rates in the Federal Register.

SSA has announced a 5.9% COLA increase in Social Security benefits effective December 1, 2021. Therefore, applying the same percentage, the following increased rates and income limitations for the DIC program became effective December 1, 2021:

Dependency and Indemnity Compensation Monthly Payment Rates

DIC Payable to a Surviving Spouse—Veteran Death on or After January 1, 1993

Basic Monthly Rate: $1,437.66.

If at the time of the Veteran's death, the Veteran was in receipt of or entitled to receive compensation for a service-connected disability rated totally disabling (including a rating based on individual unemployability) for a continuous period of at least 8 years immediately preceding death and the surviving spouse was married to the Veteran for those same 8 years, add: $305.28.

For each dependent child under the age of 18, add: $356.16.

If the surviving spouse is entitled to Aid and Attendance benefits, add $356.16.

If the surviving spouse is entitled to Housebound benefits, add $166.85.

If the surviving spouse has one or more children under the age of 18 on the award per 38 U.S.C. 1311(f), add the 2-year transitional benefit of $306.00.

DIC Payable to a Surviving Spouse—Veteran Death Prior to January 1, 1993

Veteran paygrade | Amount payable
E-1(f) | $1,437.66
E-2(f) | 1,437.66
E-3(a, f) | 1,437.66
E-4(f) | 1,437.66
E-5(f) | 1,437.66
E-6(f) | 1,437.66
E-7(g) | 1,487.35
E-8(g) | 1,570.20
E-9(g) | 1,637.64
E-9(b) | 1,767.80
W-1(g) | 1,518.14
W-2(g) | 1,578.47
W-3(g) | 1,624.62
W-4(g) | 1,719.28
O-1(g) | 1,518.14
O-2(g) | 1,570.20
O-3(g) | 1,677.86
O-4 | 1,778.43
O-5 | 1,957.12
O-6 | 2,206.80
O-7 | 2,381.89
O-8 | 2,616.20
O-9 | 2,798.41
O-10 | 3,069.37
O-10(c) | 3,294.20

(a) The surviving spouse of an Aviation Cadet or other service not covered by this table is paid the DIC rate for enlisted E-3.

(b) Veterans who served as Sgt. Major of the Army or Marine Corps, Senior Enlisted Advisor of the Navy, Chief Master Sgt. of the Air Force, Sgt. Major of the Marine Corps, or as Major Chief Petty Officer of the Coast Guard.

(c) Veterans who served as Chairman of the Joint Chiefs of Staff, Chief of Staff of the Army or Air Force, Chief of Naval Operations, Commandant of the Marine Corps, or as Commandant of the Coast Guard.

(d) If surviving spouse is entitled to aid and attendance, add $356.16; if entitled to housebound, add $166.85.

(e) Add $356.16 for each child under 18.

(f) Add $305.28 if Veteran rated totally disabled for eight continuous years prior to death and surviving spouse was married to Veteran those same eight years.

(g) The base rate is $1,742.94 if Veteran rated totally disabled for eight continuous years prior to death and surviving spouse was married to Veteran those same eight years.

DIC Payable to Children

Surviving Spouse Entitled

For each child over the age of 18 who is attending an approved course of education, the rate is $301.74.

For each child over the age of 18 who is helpless, the rate is $607.02.

No Surviving Spouse Entitled

Number of children | Total payable | Each child's share
1 | $607.02 | $607.02
2 | 873.24 | 436.62
3 | 1,139.49 | 379.83

For each additional child, add $216.54 to the total payable amount to be paid in equal shares to each child.

For each additional helpless child over 18, add $356.16 to the amount payable to the helpless child.

Signing Authority

Denis McDonough, Secretary of Veterans Affairs, approved this document on January 10, 2022 and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2022-00694 Filed 1-13-22; 8:45 am]

BILLING CODE 8320-01-P